DEPARTMENT OF HEALTH AND HUMAN SERVICES

Centers for Disease Control and Prevention

[60Day-06-05CP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Micro-Finance Project for HIV Prevention—New—National Center for HIV, STD and TB Prevention (NCHSTP), Centers for Disease Control and Prevention (CDC).

Background and Brief Description

CDC is requesting a 3-year approval from the Office of Management and Budget to conduct focus groups and administer a one-on-one qualitative interview to women who are at risk for HIV infection and community leaders in four communities in the southeastern United States.

The purpose of this project is to conduct formative research to determine the most realistic and efficacious approach for developing a micro-finance project to reduce HIV/STD-related risk behavior among unemployed or underemployed high-risk African-American women in the southeastern United States, who are among those most at risk for HIV infection in the country. The project addresses goals of the “CDC HIV Prevention Strategic Plan,” specifically the goal of decreasing the number of persons at high risk of acquiring or transmitting HIV infection. Information from this project will inform the development of economic empowerment interventions to reduce risk for HIV infection.

A focus group will be conducted with eight women (who are screened for eligibility) in each of the four communities (a total of 32 women) in the southeast United States with high prevalence of HIV and other sexually transmitted diseases. A subset of these women will participate in individual interviews. Another focus group will include community leaders in each of the four communities (a total of 32 individuals). The focus groups will capture demographic information, attitudes, and knowledge regarding income-generating activities that are feasible (can be done with small capitalization and by these women with some training and other preparation), attractive (women will do this work), and useful (likely to produce income to address a reasonable proportion of economic need; the community will use the service or purchase the product of the activity).

The subset of focus group participants who also participate in individual interviews (five women in each of the four communities, with a maximum of 20 individual interviews) will respond to more personal questions. The semi-structured individual interviews will explore behavioral, social, and economic conditions that might contribute to risk for HIV infection.

The focus groups and interviews will take about two hours each to complete. A screening interview for women participants will take about 10 minutes to complete. There are no costs to respondents other than their time.

Estimate of Annualized Burden Hours
Respondents | Number of respondents | Number of responses per respondent | Average burden per response (in hours) | Total burden (in hours)
Women-Screening interview | 55 | 1 | 10/60 | 10
Women-Focus groups | 32 | 1 | 2 | 64
Women-individual interviews | 20 | 1 | 2 | 40
Community leaders-Focus groups | 32 | 1 | 2 | 64
Total |  |  |  | 178

Dated: July 21, 2006.
Joan F. Karr,
Acting Reports Clearance Officer, Centers for Disease Control and Prevention.

[FR Doc. E6-12023 Filed 7-26-06; 8:45 am]

BILLING CODE 4163-18-P